DEPARTMENT OF AGRICULTURE

Animal and Plant Health Inspection Service

[Docket No. APHIS-2010-0028]

Availability of an Environmental Assessment for a Biological Control Agent for Asian Citrus Psyllid

AGENCY: Animal and Plant Health Inspection Service, USDA.

ACTION: Notice of availability and request for comments.

SUMMARY: We are advising the public that the Animal and Plant Health Inspection Service has prepared an environmental assessment relative to the control of Asian citrus psyllid (Diaphorina citri Kuwayama). The environmental assessment considers the effects of, and alternatives to, the release of an insect, Tamarixia radiata, into the continental United States for use as a biological control agent to reduce the severity of Asian citrus psyllid infestations. We are making the environmental assessment available to the public for review and comment.

DATES: We will consider all comments that we receive on or before June 21, 2010.

ADDRESSES: You may submit comments by either of the following methods:

•Federal eRulemaking Portal: Go to (http://www.regulations.gov/fdmspublic/component/main?main=DocketDetail&d=APHIS-2010-0028) to submit or view comments and to view supporting and related materials available electronically.

•Postal Mail/Commercial Delivery: Please send one copy of your comment to Docket No. APHIS-2010-0028, Regulatory Analysis and Development, PPD, APHIS, Station 3A-03.8, 4700 River Road Unit 118, Riverdale, MD 20737-1238. Please state that your comment refers to Docket No. APHIS-2010-0028.

Reading Room: You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Dr. Shirley A. Wager-Page, Chief, Pest Permitting Branch, PPQ, APHIS, 4700 River Road Unit 133, Riverdale, MD 20737-1237; (301) 734-8453.

SUPPLEMENTARY INFORMATION:

Background

The Animal and Plant Health Inspection Service (APHIS) is proposing to issue permits for the release of an insect, Tamarixia radiata, into the continental United States for use as a biological control agent to reduce the severity of Asian citrus psyllid (ACP) infestations.

ACP, a serious pest of citrus, was first discovered in Florida in 1998. By 2001 it had spread to 31 counties within the State, primarily due to the movements of infested nursery plants. In that year ACP was also accidentally introduced into Puerto Rico and Texas. It was subsequently discovered in Hawaii in 2006, Guam in 2007, in Alabama, Georgia, Louisiana, Mississippi, South Carolina, and California in 2008, in portions of one county in Arizona in 2009, and in the U.S. Virgin Islands in 2010.

ACP is of particular concern since it is a carrier of Huanglongbing disease (citrus greening), which is considered to be one of the most serious citrus diseases in the world. Citrus greening is a bacterial disease that attacks the vascular system of its host plant, causing yellow shoots, blotchy mottling and chlorosis, reduced foliage, and tip dieback. Citrus greening greatly reduces production, destroys the economic value of citrus fruit, and can kill trees. Once infected, there is no cure for a tree with citrus greening. In areas of the world where citrus greening is established, citrus trees decline and die within a few years and may never produce usable fruit.

In addition to transmitting citrus greening, ACP can cause economic damage to citrus in groves and nurseries by direct feeding. Both adults and nymphs feed on young foliage, depleting the sap and causing galling or curling of leaves. Large populations of ACP feeding on a citrus shoot can kill the growing tip.

Alternative ACP management options include chemical control and the release of an alternative biological control agent, an encyrtid wasp, (Diaphorencyrtus aligarhensis). However, these management measures can be expensive, temporary, or have non-target impacts. Thus, a permit application has been submitted to APHIS for the purpose of releasing an insect, T. radiata, into the continental United States for use as a biological control agent to reduce the severity of ACP infestations.

APHIS’ review and analysis of the proposed action are documented in detail in an environmental assessment (EA) titled “Proposed Release of a Parasitoid (Tamarixia radiate Waterston) for the Biological Control of Asian Citrus Psyllid (Diaphorina citri Kuwayama) in the Continental United States” (November 2009). We are making the EA available to the public for review and comment. We will consider all comments that we receive on or before the date listed under the heading DATES at the beginning of this notice.

The EA may be viewed on the Regulations.gov Web site or in our reading room (see ADDRESSES above for instructions for accessing Regulations.gov and information on the location and hours of the reading room). You may request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS’ NEPA Implementing Procedures (7 CFR part 372).

Done in Washington, DC, this 14th day of May 2010.

Kevin Shea,
Acting Administrator, Animal and Plant Health Inspection Service.

[FR Doc. 2010-12026 Filed 5-19-10; 8:45 am]

BILLING CODE 3410-34-S